DEPARTMENT OF LABOR

Employment and Training Administration

[TA-W-50,992]

Lonza Group, Los Angeles, CA; Notice of Termination of Investigation

Pursuant to section 221 of the Trade Act of 1974, as amended, an investigation was initiated on February 26, 2003 in response to a worker petition filed on behalf of workers at Lonza Group, Los Angeles, California.

The petitioner has requested that the petition be withdrawn. Consequently, the investigation has been terminated.

Signed at Washington, DC this 23rd day of April, 2003.
Richard Church,
Certifying Officer, Division of Trade Adjustment Assistance.

[FR Doc. 03-11549 Filed 5-8-03; 8:45 am]

BILLING CODE 4510-30-P